DEPARTMENT OF ENERGY

Federal Energy Regulatory Commission

Combined Notice of Filings #2

Take notice that the Commission received the following exempt wholesale generator filings:

Docket Numbers: EG14-3-000.

Applicants: Miami Wind I LLC.

Description: Notice of Self-Certification of Exempt Wholesale Generator Status of Miami Wind I LLC.

Filed Date: 10/9/13.

Accession Number: 20131009-5053.

Comments Due: 5 p.m. ET 10/30/13.

Take notice that the Commission received the following electric rate filings:

Docket Numbers: ER10-2835-002.

Applicants: Google Energy LLC.

Description: Supplement to August 9, 2013 Notice of Change in Status of Google Energy LLC.

Filed Date: 10/2/13.

Accession Number: 20131002-5016.

Comments Due: 5 p.m. ET 10/23/13.

Docket Numbers: ER13-1914-001.

Applicants: Southwest Power Pool, Inc.

Description: Southwest Power Pool, Inc. submits Amendment of Creditable Upgrades Filing ER13-1914 to be effective 9/8/2013.

Filed Date: 10/9/13.

Accession Number: 20131009-5129.

Comments Due: 5 p.m. ET 10/30/13.

Docket Numbers: ER14-62-000.

Applicants: Southern California Edison Company.

Description: GIA and Distribution Service Agreement with SunEdison Utility Solutions, LLC to be effective 10/10/2013.

Filed Date: 10/9/13.

Accession Number: 20131009-5004.

Comments Due: 5 p.m. ET 10/30/13.

Docket Numbers: ER14-63-000.

Applicants: Bangor Hydro Electric Company, ISO New England Inc.

Description: Oakfield Wind Farm Amended and Restated LGIA to be effective 10/11/2013.

Filed Date: 10/9/13.

Accession Number: 20131009-5044.

Comments Due: 5 p.m. ET 10/30/13.

Docket Numbers: ER14-64-000.

Applicants: ITC Midwest LLC.

Description: Filing of Executed Agreement in Compliance with Docket No. ER12-2144 to be effective 12/9/2013.

Filed Date: 10/9/13.

Accession Number: 20131009-5069.

Comments Due: 5 p.m. ET 10/30/13.

Docket Numbers: ER14-65-000.

Applicants: Midcontinent Independent System Operator, Inc.

Description: 10-09-2013 Ameren-Prairie Power Rate Sch 37 JPZ Agr to be effective 6/1/2013.

Filed Date: 10/9/13.

Accession Number: 20131009-5096.

Comments Due: 5 p.m. ET 10/30/13.

Docket Numbers: ER14-66-000.

Applicants: Midcontinent Independent System Operator, Inc.

Description: 10-09-2013 Rate Sch 36 Southern Co Emer Energy Service Sch Agr to be effective 12/19/2013.

Filed Date: 10/9/13.

Accession Number: 20131009-5099.

Comments Due: 5 p.m. ET 10/30/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 9, 2013.
Nathaniel J. Davis, Sr.,
Deputy Secretary.

[FR Doc. 2013-24485 Filed 10-17-13; 8:45 am]

BILLING CODE 6717-01-P